DEPARTMENT OF THE INTERIOR

Bureau of Indian Affairs

Notice of Intent To Prepare an Environmental Impact Statement for the Proposed Desert Rock Energy Project, San Juan County, NM

AGENCY: Bureau of Indian Affairs, Interior.

ACTION: Notice.

SUMMARY: This notice advises the public that the Bureau of Indian Affairs (BIA), in cooperation with the Navajo Nation, intends to gather the information necessary for preparing an Environmental Impact Statement (EIS) for the proposed approval of a lease to Sithe Global Power, LLC, to construct, operate and maintain a coal-fired, electric power-generating plant on approximately 600 acres of land held in trust by the United States for the benefit of the Navajo Nation in San Juan County, New Mexico. The purpose of the proposed action is to help meet the economic development needs of the Navajo Nation and the growing energy needs of the western United States. This notice also announces public scoping meetings to identify potential issues and content for inclusion in the EIS.

DATES: Written comments on the scope of the EIS or implementation of the proposal must arrive by December 17, 2004. The public scoping meetings will be held Monday, Tuesday, Wednesday, and Thursday, December 6, 7, 8, and 9, 2004, starting at 6:30 p.m.

ADDRESSES: You may mail or hand carry written comments to Eloise Chicharello, Director, Navajo Regional Office, Bureau of Indian Affairs, PO Box 1060, Gallup, New Mexico 87305.

The addresses for the public scoping meetings are as follows:

December 6, 2004—Central High School Cafeteria, 4525 North Central Avenue, Phoenix, Arizona.

December 7, 2004—Farmington Civic Center, Exhibit Hall One, 20 West Arrington, Farmington, New Mexico.

December 8, 2004—Western New Mexico University, 2055 State Road 602, Gallup, New Mexico.

December 9, 2004—Flagstaff High School, 400 West Elm Street, Flagstaff, Arizona.

FOR FURTHER INFORMATION CONTACT: Loretta A.W. Tsosie, (505) 863-8296.

SUPPLEMENTARY INFORMATION: Sithe Global Power, LLC, a privately held, independent power company, and Diné Power Authority, an enterprise of the Navajo Nation established by the Navajo Nation Council to promote the development of energy resources, have entered into a joint agreement to support the development of a coal-fired electric power-generating plant capable of producing as much as 1,500-megawatt (MW), and associated facilities, to be operated by Sithe Global.

The proposed 600-acre site for the project is located approximately 30 miles southwest of Farmington, New Mexico, adjacent to the Navajo Mine, which would provide the low-sulfur coal to generate the power. The primary components of the proposed project include two 750-MW coal-fired units that, together, would generate as much as 1,500 MW; and associated facilities and operations, including a plant cooling system, a fuel supply system, waste management operations, safety systems (e.g., lighting, fire protection), water system infrastructure, transportation access roads, power transmission interconnection facilities, and construction staging areas.

The proposed project would interconnect with the existing 500-kV transmission system operated by Arizona Public Service through the construction of approximately 25 miles of new transmission line to either the existing Four Corners Substation or a new substation that would be constructed just west of the Four Corners Power Plant. The project proposes to use existing utility corridors and roads for the majority of the interconnect system, but some new utility corridors and roads may need to be built. The project design incorporates appropriate measures to minimize the effects of the proposed project on the quality of the environment.

The purpose of and need for the proposed project is to generate and distribute electricity in western United States markets using capacity on existing and proposed transmission lines to:

(1) Improve and enhance the existing electrical power system in the West and deliver competitively priced power to these markets;

(2) Generate electricity from a low-sulfur coal source that would reduce electrical output demands on natural gas and older coal-fired units; and

(3) Support the Navajo Nation's objective for economic development in the region by providing employment and revenue generated by the proposed project.

The scoping process for the EIS will include: (1) Identification of issues; (2) identification of sensitive or critical environmental effects; (3) identification of reasonable alternatives; and (4) coordinating with the Navajo Nation Council, governmental and non-governmental agencies and the public. Written comments should address: (1) Issues to be considered; (2) reasonable and feasible alternatives; or (3) information bearing on the EIS.

Resources so far identified for analysis in the EIS include air, geology, soils, water, vegetation, wildlife, special status species, land use, access, visual resources, noise, social and economic conditions, environmental justice, hazardous materials, and cultural and paleontological resources. Analyses will address requirements of the Clean Water Act, Clean Air Act, Endangered Species Act, National Historic Preservation Act, Resource Conservation and Recovery Act, Comprehensive Environmental Response Compensation and Liability Act and others, as needed. Alternatives to be analyzed include, at a minimum, the proposed action and no action. The range of issues and alternatives to be addressed may be expanded based on comments received during the scoping process.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: May 3, 2004.
David W. Anderson,
Assistant Secretary—Indian Affairs.

[FR Doc. 04-24988 Filed 11-9-04; 8:45 am]

BILLING CODE 4310-W7-P